ENVIRONMENTAL PROTECTION AGENCY

[Regional Docket Nos. II-2000-04, 05, 06; FRL-7256-2]

Clean Air Act Operating Permit Program; Petitions for Objection to State Operating Permits for the Rochdale Village Power Plant; Tanagraphics, Inc.; and the North Shore Towers Apartments Total Energy Plant

AGENCY: Environmental Protection Agency (EPA).

ACTION: Notice of final orders on petitions to object to three State operating permits.

SUMMARY: This document announces that the EPA Administrator has responded to three citizen petitions asking EPA to object to operating permits issued to three facilities by the New York State Department of Environmental Conservation (NYSDEC). Specifically, the Administrator has partially granted and partially denied a petition submitted by the New York Public Interest Research Group (NYPIRG) to object to the State operating permit issued to the power plant operated by Rochdale Village, Inc. in Queens, NY. Second, the Administrator has partially granted and partially denied a petition submitted by NYPIRG to object to the State operating permit issued to Tanagraphics, Inc., in New York, NY. Third, the Administrator has partially granted and partially denied a petition submitted by NYPIRG to object to the State operating permit issued to North Shore Towers Apartments Total Energy Plant, in Floral Park, NY.

Pursuant to section 505(b)(2) of the Clean Air Act (Act), petitioner may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA, Region 2, 290 Broadway, New York, New York 10007-1866. If you wish to examine these documents, you should make an appointment at least 24 hours before visiting day. Each of the final orders is also available electronically at: http://www.epa.gov/region07/programs/artd/air/title5/petitiondb/petitiondb2000.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

I. Rochdale Village

On June 7, 2000, the EPA received a petition from NYPIRG, requesting that EPA object to the issuance of the title V operating permit to Rochdale Village. The petition raises issues regarding the permit application, the permit issuance process, and the permit itself. NYPIRG asserts that (1) NYSDEC violated the public participation requirements of 40 CFR 70.7(h) by inappropriately denying NYPIRG's request for a public hearing; (2) the permit is based on an incomplete permit application in violation of 40 CFR 70.5(c); (3) the permit lacks a statement of basis as required by 40 CFR 70.7(a)(5); (4) the permit repeatedly violates the 40 CFR 70.6(a)(3)(iii)(A) requirement that the permittee submit reports of any required monitoring at least every six months; (5) the permit distorts the annual compliance certification requirement of CAA section 114(a)(3) and 40 CFR 70.6(c)(5); (6) the permit does not assure compliance with all applicable requirements as mandated by 40 CFR 70.1(b) and 70.6(a)(1) because it illegally sanctions the systematic violation of applicable requirements during startup/shutdown, malfunction, maintenance, and upset conditions; (7) the permit does not require prompt reporting of all deviations from permit requirements as mandated by 40 CFR 70.6(a)(3)(iii)(B); and (8) the permit does not assure compliance with all applicable requirements as mandated by 40 CFR 70.1(b) and 70.6(a)(1) because many individual permit conditions lack adequate periodic monitoring and are not practically enforceable.

NYPIRG raises each of these issues in the petitions on Tanagraphics and North Shore Towers Apartments, as well. In each of these petitions, the eighth issue is subdivided into several detailed points, some which are permit-specific and some which are shared among the other permits.

On July 3, 2002, the Administrator issued an order partially granting and partially denying the petition on Rochdale Village. The order explains the reasons behind EPA's conclusion that the NYSDEC must reopen the permit to: (1) Indicate the facility employs continuous opacity monitors, and to require quarterly reporting of opacity data; (2) require quarterly reporting of natural gas and fuel oil consumption data, as required by the approved plan for complying with the Reasonably Available Control Technology requirements for nitrogen oxides; and (3) remove a condition that improperly applies an inapplicable sulfur requirement to the facility. The order also explains the reasons for denying NYPIRG's remaining claims.

II. Tanagraphics

On July 7, 2000, the EPA received a petition from NYPIRG, requesting that EPA object to the issuance of the title V operating permit to Tanagraphics, on the grounds listed above. On July 3, 2002, the Administrator issued an order partially granting and partially denying the petition. The order explains the reasons behind EPA's conclusion that the NYSDEC must reopen the permit to: (1) Include periodic monitoring to assure compliance with DEC's rules on the use of open containers; (2) require testing of fountain solutions, inks, and coatings more frequently than one time; and (3) include two opacity conditions (with periodic monitoring) that were omitted from the original permit. The order also explains the reasons for denying NYPIRG's remaining claims.

III. North Shore Towers Apartments

On August 1, 2000, the EPA received a petition from NYPIRG, requesting that EPA object to the issuance of the title V operating permit to North Shore Towers Apartments on the grounds listed above. On July 3, 2002, the Administrator issued an order partially granting and partially denying the petition. The order explains the reasons behind EPA's conclusion that the NYSDEC must reopen the permit to: (1) Revise a nitrogen oxides monitoring provision to reference the most recently approved stack test results; and (2) revise a sulfur-in-fuel recordkeeping requirement to retain records on-site for 5-years. The order also explains the reasons for denying NYPIRG's remaining claims.

Dated: July 23, 2002.
Jane M. Kenny,
Regional Administrator, Region 2.

[FR Doc. 02-19795 Filed 8-5-02; 8:45 am]

BILLING CODE 6560-50-U